FEDERAL MARITIME COMMISSION

Ocean Transportation Intermediary License Applicants

Notice is hereby given that the following applicants have filed with the Federal Maritime Commission an application for license as a Non-Vessel—Operating Common Carrier and Ocean Freight Forwarder—Ocean Transportation Intermediary pursuant to section 19 of the Shipping Act of 1984 as amended (46 U.S.C. Chapter 409 and 46 CFR 515).

Persons knowing of any reason why the following applicants should not receive a license are requested to contact the Office of Transportation Intermediaries, Federal Maritime Commission, Washington, DC 20573.

Non-Vessel—Operating Common Carrier Ocean Transportation Intermediary Applicants:

Ocean Cargo Carriers Co. LLC, 840 Bond Street, Elizabeth, NJ 07201, Officers: Victor Rao, President, (Qualifying Individual), Wilma Rodriguez-Rao, Vice President.

Project Freight Transportation, Inc., 623 Staffordshire Drive East, Jacksonville, FL 32225, Officer: Eric K. Sullivan, President, (Qualifying Individual).

Letter Express of Broward Inc., dba Letter Express Courier & Logistics Inc., 2111 NW 79th Avenue, Miami, FL 33122, Officer: Rafael Landa, President, (Qualifying Individual).

Cargo Express, 1790 Yardley Langhorne Road, Suite 211, Yardley, PA 19067, Officers: Joseph Pfender, President, (Qualifying Individual), James Ferrero, Vice President.

AMS Logistics Services Ind., 955 17th Lane SW, Vero Beach, FL 32962, Officers: Richard E. Browne, President, (Qualifying Individual), Joanne M. Browne, Vice President.

Family Cargo Express, 941 Intervale Avenue, Bronx, NY 10459, Miguel Watos, Sole Proprietor.

American Cargo Shipping Lines, Inc., 12335 Wake Union Church Road, Suite 206, Wake Forest, NC 27587, Officer: Richard Sheikh, President, (Qualifying Individual).

Non-Vessel—Operating Common Carrier and Ocean Freight Forwarder Transportation Intermediary Applicants:

AAC Transport, Inc., 147-35 183rd Street, Rm. 204, Springfield Gardens, NY 11413, Officer: Edward Ting, President, (Qualifying Individual).

Airtrans Logistics USA Inc., 230-59 Int'l Airport Center Blvd., Suite 190, Springfield Gardens, NY 11413, Officers: Kwok Keung Wong, Secretary, (Qualifying Individual), Chern Fong Lim, Vice President.

Alpha Sun International, Inc., 5300 Kennedy Road, Suite C, Forest Park, GA 30297, Officers: Norman Kathryn Williams, CFO, (Qualifying Individual), Donna M. Mullins, President.

Gillespie-Munro (U.S.A.) Inc., dba Gillship Navigation, 507 Lamberton Road, Mooers Forks, NY 12959-2612, Officers: John Anctil, Vice President, (Qualifying Individual).

Don Cameron & Associates, Inc., dba Axis Global Logistics, 396 American Blvd. East, Bloomington, MN 55420, Officers: Jeffrey K. Larsen, V. P. Operations, (Qualifying Individual), Donald J. Cameron, President.

Cargo Rates International LLC, 3322 36th Avenue S, Seattle, WA 98144, Officer: Robert James Greer, Member, (Qualifying Individual).

Ocean Freight Forwarder—Ocean Transportation Intermediary Applicants

Bosmak, Inc., 1340 Deanwood Road, Baltimore, MD 21234, Officers: Steve Onyilokwu, Owner, (Qualifying Individual), Beatrice Onyilokwu, Secretary.

Destiny Global Export Corp., 12 Kingsberry Drive, Somerset, NJ 08873, Officer: James Onueha, Director, (Qualifying Individual).

Fried-Sped Logistics LLC, 4100 Chestnut Avenue, Newport News, VA 23607, Officers: Mary Allen Keith, Traffic Manager, (Qualifying Individual), Wayne Gourley, Office Manager.

Dated: December 1, 2006.
Karen V. Gregory,
Assistant Secretary.

[FR Doc. E6-20662 Filed 12-5-06; 8:45 am]

BILLING CODE 6730-01-P